DEPARTMENT OF THE INTERIOR

Bureau of Land Management

[LLWY920000 L14300000.ET0000; WYW 115104]

Notice of Proposed Withdrawal Extension and Opportunity for Public Meeting; Wyoming

AGENCY: Bureau of Land Management, Interior.

ACTION: Notice.

SUMMARY: The United States Department of Agriculture (USDA), Forest Service has filed an application with the Bureau of Land Management (BLM) that proposes to extend the duration of Public Land Order (PLO) No. 6886 for an additional 20-year term. PLO No. 6886 withdrew approximately 21,636.29 acres of National Forest System land from location and entry under the United States mining laws to protect unique topographic characteristics and recreation values of the Snowy Range Area. The withdrawal created by PLO No. 6886 will expire on October 7, 2011, unless extended. This notice also gives an opportunity for the public to comment on the proposed action and announces the date, time, and location of a public meeting.

DATES: Comments must be received by July 25, 2011.

ADDRESSES: Comments should be sent to the Forest Supervisor, U.S. Forest Service, Region 2, 2468 Jackson Street, Laramie, Wyoming 82070 or the Wyoming State Director, Bureau of Land Management, 5353 Yellowstone Road, Cheyenne, Wyoming 82009.

FOR FURTHER INFORMATION CONTACT: Mary Sanderson, U.S. Forest Service, Region 2, Supervisors Office, 2468 Jackson Street, Laramie, Wyoming 82070, 307-745-2363, or e-mail msanderson@fs.fed.us, or Janelle Wrigley, Bureau Land Management, Wyoming State Office, 5353 Yellowstone Road, Cheyenne, Wyoming 82009, 307-775-6257, or e-mail Janelle_Wrigley@blm.gov.

SUPPLEMENTARY INFORMATION: The USDA Forest Service filed an application requesting that the Department of the Interior's Assistant Secretary for Land and Minerals Management extend PLO No. 6886 (56 FR 50661 (1991)), which withdrew approximately 21,636.29 acres of National Forest System lands located in Albany and Caribou Counties, Wyoming, from location and entry under the United States mining laws (30 U.S.C. ch. 2) for an additional 20-year term. PLO No. 6886 is incorporated herein by reference.

The purpose of the proposed withdrawal extension is to continue to protect the unique topographic characteristics of the Snowy Range Area for recreation purposes.

As extended, the withdrawal would not alter the applicability of those public land laws governing the use of the National Forest System land under lease, license, or permit, or governing the disposal of their mineral or vegetative resources other than under the mining laws.

The use of a right-of-way, interagency, or cooperative agreement would not adequately constrain nondiscretionary uses which could result in permanent loss of these recreational values.

There are no suitable alternative sites available. There are no other Federal lands in the area containing these recreational values.

No water rights would be needed to fulfill the purpose of the requested withdrawal extension.

Records relating to the application may be examined by contacting Janelle Wrigley at the above address, by calling 307-775-6257, or e-mail Janelle_Wrigley@blm.gov.

On or before July 25, 2011, all persons who wish to submit comments, suggestions, or objections in connection with the proposed withdrawal extension may present their views in writing to the Wyoming State Director, Bureau of Land Management, at the address noted above.

Comments, including names and street addresses of respondents, will be available for public review at the Wyoming State Office, Bureau of Land Management, 5353 Yellowstone Road, Cheyenne, Wyoming 82009, during regular business hours 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that a public meeting will be held in connection with the proposed withdrawal extension. The meeting will be held on May 26, 2011, at the U.S. Forest Service, Supervisors Office, 2468 Jackson Street, Laramie, Wyoming 82070 from 6 p.m. until 9 p.m.

This withdrawal extension application will be processed in accordance with the applicable regulations set forth in 43 CFR 2310.4.

Authority: 43 CFR 2310.3-1.

Donald A. Simpson,
Wyoming State Director.

[FR Doc. 2011-10016 Filed 4-25-11; 8:45 am]

BILLING CODE 3410-11-P